DEPARTMENT OF COMMERCE

National Oceanic and Atmospheric Administration

50 CFR Part 224

[I.D. 040704A]

Endangered Fish and Wildlife; Advance Notice of Proposed Rulemaking (ANPR) for Right Whale Ship Strike Reduction; Extension of Public Comment Period

AGENCY: National Marine Fisheries Service (NMFS), National Oceanic and Atmospheric Administration (NOAA), Commerce.

ACTION: Notice to extend public comment period.

SUMMARY: NMFS is extending the public comment period on the Advance Notice of Proposed Rulemaking (ANPR) published June 1, 2004. The ANPR announces a strategy to reduce mortalities to North Atlantic right whales as a result of vessel collisions. NMFS is extending the public comment period through November 15, 2004, to allow for adequate time to conduct stakeholder meetings along the Atlantic coast in association with the ANPR comment period.

DATES: Written and electronic comments on the ANPR must be received (see ADDRESSES) no later than 5 p.m. eastern standard time on November 15, 2004.

ADDRESSES: Comments should be sent to:

• Mail: Chief, Marine Mammal Conservation Division, Attn: Right Whale Ship Strike Strategy, Office of Protected Resources, NMFS, 1315 East-West Highway, Silver Spring, MD 20910.

• Fax: (301)427-2522, Attn: Right Whale Ship Strike Strategy.

• E-mail: shipstrike.comments@noaa.gov.

• Federal Rulemaking portal: http://www.regulations.gov (follow instructions for submitting comments).

The June 1, 2004, ANPR may be obtained at www.nmfs.noaa.gov/pr/ under the “Recent News and Hot Topics” link. Using the drop-down menu, the link “Ship Strike Strategy” provides access to the ANPR, as well as links to background and supporting documentation related to the proposed strategy.

FOR FURTHER INFORMATION CONTACT: Michael Payne, Division Chief, Office of Protected Resources, NMFS, at (301) 713-2322; Pat Gerrior, Fishery Biologist, Northeast Regional Office, NMFS, at (508) 495-2264; or Barb Zoodsma, Fishery Biologist, Southeast Regional Office, NMFS, at (904) 321-2806.

SUPPLEMENTARY INFORMATION: This notice provides additional opportunity for public involvement in the development and implementation of a strategy to reduce the likelihood and threat of ship strike mortalities to North Atlantic right whales. The strategy is described in greater detail in the ANPR published June 1, 2004 (69 FR 30857). In summary, it is a multi-faceted plan that includes potential routing changes, speed reductions, and the use of dynamic management areas as proposed operational measures.

NMFS has already held five public meetings (Boston, MA; Jersey City, NJ; Wilmington, NC; Jacksonville, FL; and Silver Spring, MD) in July and August 2004 to present the strategy and solicit information on the development and implementation of the proposed new operational measures. The agency is extending the comment period through November 15, 2004, to convene a series of smaller stakeholder meetings through its regional Right Whale Recovery Implementation Teams. Comments received during the extended ANPR comment period, and in the associated stakeholder meetings, will assist the agency in determining what actions are necessary to reduce the threat of ship collisions to right whales.

Dated: September 7, 2004.
Laurie K. Allen
Director, Office of Protected Resources, National Marine Fisheries Service.

[FR Doc. 04-20539 Filed 9-10-04; 8:45 am]

BILLING CODE 3510-22-S